DEPARTMENT OF TRANSPORTATION

Federal Aviation Administration

14 CFR Part 39

[Docket No. FAA-2020-1117; Project Identifier MCAI-2020-01429-E; Amendment 39-21361; AD 2020-26-06]

RIN 2120-AA64

Airworthiness Directives; Technify Motors GmbH (Type Certificate Previously Held by Thielert Aircraft Engines GmbH) Reciprocating Engines

AGENCY: Federal Aviation Administration (FAA), DOT.

ACTION: Final rule; request for comments.

SUMMARY: The FAA is adopting a new airworthiness directive (AD) for certain Technify Motors GmbH TAE 125-02-99 and TAE 125-02-114 model reciprocating engines. This AD was prompted by a report of a defective turbocharger hose discovered on an airplane during a pre-flight inspection. This AD requires the removal and replacement of the affected turbocharger hose. The FAA is issuing this AD to address the unsafe condition on these products.

DATES: This AD is effective December 29, 2020.

The FAA must receive comments on this AD by January 28, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Continental Aerospace Technologies GmbH, Platanenstrasse 14, 09356 Sankt Egidien, Germany; phone: +49 37204 696 0; email: support@continentaldiesel.com; website: www.continentaldiesel.com. You may view this service information at the FAA, Airworthiness Products Section, Operational Safety Branch, 1200 District Avenue, Burlington, MA 01803. For information on the availability of this material at the FAA, call (781) 238-7759. It is also available at https://www.regulations.gov by searching for and locating Docket No. FAA-2020-1117.

Examining the AD Docket

You may examine the AD docket at https://www.regulations.gov by searching for and locating Docket No. FAA-2020-1117; or in person at Docket Operations between 9 a.m. and 5 p.m., Monday through Friday, except Federal holidays. The AD docket contains this final rule, any comments received, and other information. The street address for the Docket Operations is listed above.

FOR FURTHER INFORMATION CONTACT: Kevin Clark, Aviation Safety Engineer, ECO Branch, FAA, 1200 District Avenue, Burlington, MA 01803; phone: (781) 238-7088; fax: (781) 238-7199; email: kevin.m.clark@faa.gov.

SUPPLEMENTARY INFORMATION:

Background

The European Union Aviation Safety Agency (EASA), which is the Technical Agent for the Member States of the European Community, has issued EASA AD 2020-0228, dated December 3, 2020 (referred to after this as “the MCAI”), to address an unsafe condition for the specified products. The MCAI states:

During a pre-flight check, a defect turbocharger hose was found on an aeroplane. Investigation determined that a manufacturing defect exists on turbocharger hoses of a certain batch from one manufacturer. These turbocharger hoses are not pressure stable and it was determined that they could fail completely.

This condition, if not corrected, could lead to significant loss of engine power which, in certain phases of flight and under certain operational conditions, could result in a hazardous condition.

To address this potential unsafe condition, Continental Aerospace Technologies issued the applicable SB (original issue and Revision 01) to provide instructions for turbocharger hose identification and replacement.

For the reason described above, this [EASA] AD requires removal of affected parts from engines installed on Cessna F172 and Piper PA-28 aeroplanes, and prohibits (re-) installation.

You may obtain further information by examining the MCAI in the AD docket at https://www.regulations.gov by searching for and locating Docket No. FAA-2020-1117.

FAA's Determination

This product has been approved by EASA and is approved for operation in the United States. Pursuant to our bilateral agreement with the European Community, EASA has notified us of the unsafe condition described in the MCAI. The FAA is issuing this AD because the agency evaluated all the relevant information provided by EASA and has determined that the unsafe condition described previously is likely to exist or develop in other products of the same type design.

Related Service Information

The FAA reviewed Continental Aerospace Technologies GmbH Service Bulletin (SB) No. CG 601-1014 P1, Revision 2, dated November 24, 2020 (SB CG 601-1014 P1), and Continental Aerospace Technologies GmbH SB No. CG 651-1009 P1, Revision 1, dated October 15, 2020 (SB CG 651-1009 P1). SB CG 601-1014 P1 and SB CG 651-1009 P1 describe procedures for removing and replacing the affected turbocharger hose and identifies the affected turbocharger hoses for certain TAE 125-02-99 and TAE 125-02-114 reciprocating engines installed on certain Textron Aviation, Inc. Model 172 and F172 airplanes. SB CG 651-1009 P1 describes procedures for removing and replacing the affected turbocharger hose and identifies the affected turbocharger hoses for certain TAE 125-02-114 reciprocating engines installed on Piper Aircraft, Inc. Model PA-28 airplanes.

AD Requirements

This AD requires the removal and replacement of the affected turbocharger hose.

Differences Between the AD and the Service Information or the MCAI

Continental Aerospace Technologies GmbH SB No. CG 601-1014 P1 and SB No. CG 651-1009 P1 instructs operators to return the affected turbocharger hose to Continental Aerospace Technologies GmbH, while this AD does not require returning the affected turbocharger hose.

EASA AD 2020-0228 references EASA Supplemental Type Certificate (STC) 10014287 (formerly EASA.A.S.01527, LBA EMZ SA1295) and EASA STC 10014364 (formerly EASA.A.S.01632, LBA EMZ SA1377), whereas this AD does not.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA has found the risk to the flying public justifies waiving notice and comment prior to adoption of this rule because no domestic operators use this product. It is unlikely that the FAA will receive any adverse comments or useful information about this AD from any U.S. operator. Accordingly, notice and opportunity for prior public comment are unnecessary, pursuant to 5 U.S.C. 553(b)(3)(B). In addition, for the foregoing reasons, the FAA finds that good cause exists pursuant to 5 U.S.C. 553(d) for making this amendment effective in less than 30 days.

Comments Invited

The FAA invites you to send any written data, views, or arguments about this final rule. Send your comments to an address listed under ADDRESSES. Include the docket number FAA-2020-1117 and Project Identifier MCAI-2020-01429-E at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kevin Clark, Aviation Safety Engineer, ECO Branch, FAA, 1200 District Avenue, Burlington, MA 01803. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 0 engines installed on airplanes of U.S. registry.

The FAA estimates the following costs to comply with this AD:

Estimated Costs
Action | Labor cost | Parts cost | Cost per product | Cost on U.S. operators
Replace turbocharger hose | 8 work-hours × $85 per hour = $680 | $500 | $1,180 | $0

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-26-06 Technify Motors GmbH (Type Certificate previously held by Thielert Aircraft Engines GmbH): Amendment 39-21361; Docket No. FAA-2020-1117; Project Identifier MCAI-2020-01429-E.

(a) Effective Date

This airworthiness directive (AD) is effective December 29, 2020.

(b) Affected ADs

None.

(c) Applicability

This AD applies to Technify Motors GmbH (Type Certificate previously held by Thielert Aircraft Engines GmbH) TAE 125-02-99 and TAE 125-02-114 model reciprocating engines with engine serial number (S/N) 02-02-02793, 02-02-11120, 02-02-11424, 02-02-11425, 02-02-11426, 02-02-11494, 02-02-11497, 02-02-11498, 02-02-11500, 02-02-11514, 02-02-11553, 02-02-11574, 02-02-11576, 02-02-11579, 02-02-11580, 02-02-11581, 02-02-11582, and 02-02-11606 with turbocharger hose, part number (P/N) TAE EPA 40-7520-H0131 01, manufactured by BOOST products GmbH with batch number 3101-001, installed.

(d) Subject

Joint Aircraft System Component (JASC) 8100, Exhaust Turbine System (RECIP).

(e) Unsafe Condition

This AD was prompted by a report of a defective turbocharger hose that was discovered on an airplane during a pre-flight inspection. The FAA is issuing this AD to prevent failure of the turbocharger hose during flight. The unsafe condition, if not addressed, could result in loss of engine power and reduced control of the airplane.

(f) Compliance

Comply with this AD within the compliance times specified, unless already done.

(g) Required Action

Within 20 flight hours or 30 days after the effective date of this AD, whichever occurs first, remove the affected turbocharger hose and replace with a part eligible for installation.

(h) Installation Prohibition

After the effective date of this AD, do not install onto any engine a turbocharger hose, P/N TAE EPA 40-7520-H0131 01, manufactured by BOOST products GmbH with batch number 3101-001.

(i) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information. You may email your request to: ANE-AD-AMOC@faa.gov.

(2) Before using any approved AMOC, notify your appropriate principal inspector, or lacking a principal inspector, the manager of the local flight standards district office/certificate holding district office.

(j) Related Information

(1) For more information about this AD, contact Kevin Clark, Aviation Safety Engineer, ECO Branch, FAA, 1200 District Avenue, Burlington, MA 01803; phone: (781) 238-7088; fax: (781) 238-7199; email: kevin.m.clark@faa.gov.

(2) Refer to European Union Aviation Safety Agency (EASA) AD 2020-0228, dated December 3, 2020, for more information. You may examine the EASA AD in the AD docket at https://www.regulations.gov by searching for and locating it in Docket No. FAA-2020-1117.

(k) Material Incorporated by Reference

None.

Issued on December 8, 2020.
Lance T. Gant,
Director, Compliance & Airworthiness Division, Aircraft Certification Service.

[FR Doc. 2020-27312 Filed 12-11-20; 8:45 am]

BILLING CODE 4910-13-P